DEPARTMENT OF HEALTH AND HUMAN SERVICES

Administration for Children and Families

Submission for OMB Review; Electronic Document Exchange (OMB No.: 0970-0435)

AGENCY: Office of Child Support Enforcement, Administration for Children and Families, HHS.

ACTION: Request for public comment.

SUMMARY: The Office of Child Support Enforcement (OCSE), Administration for Children and Families (ACF), is requesting the federal Office of Management and Budget (OMB) to approve the Electronic Document Exchange (EDE), with minor revisions, for an additional three years. State child support agencies use the EDE to improve case processing. The current OMB approval expires on June 30, 2022.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The EDE provides a centralized, secure system for authorized users in state child support agencies to electronically exchange child support and spousal support case information with other state child support agencies. EDE benefits state child support agencies by reducing delays, costs, and barriers associated with interstate case processing, increasing state collections, improving document security, standardizing data sharing, increasing state participation, and improving case processing, resulting in better overall child and spousal support outcomes. OCSE made minor updates to the Portal screens to enhance functionality.

Respondents: State Child Support Agencies.

Annual Burden Estimates:

Instrument | Annual number of respondents | Annual number of responses per respondent | Average burden hours per response | Annual burden hours
EDE Screens | 49 | 4,662 | 0.017 | 3,883

Estimated Total Annual Burden Hours: 3,883.

Authority: 42 U.S.C. 652(a)(7); 42 U.S.C. 666(c)(1); and 45 CFR 303.7(a)(5).

Mary B. Jones,
ACF/OPRE Certifying Officer.

[FR Doc. 2022-08770 Filed 4-22-22; 8:45 am]

BILLING CODE 4184-41-P